DEPARTMENT OF ENERGY

Federal Energy Regulatory Commission

[Docket No. CP20-17-000]

Northern Natural Gas Company; Notice of Request Under Blanket Authorization

Take notice that on November 25, 2019, Northern Natural Gas Company (Northern Natural), 1111 South 103rd Street, Omaha, Nebraska 68124, filed in the above referenced docket, a prior notice request pursuant to sections 157.205 and 157.208 of the Commission's regulations under the Natural Gas Act (NGA) and Northern Natural's blanket certificate issued in Docket No. CP82-401-000, for authorization to install and operate (1) 7.4-mile-long, 8-inch-diamter branch line loop located in Juneau County, Wisconsin; (2) an addition electric motor-driven 800-HP reciprocating compressor unit at its existing Spring Green CS in Sauk County, Wisconsin; and (3) branch line take-off regulation, including appurtenances in Salk County, Wisconsin (New Lisbon 2020 Expansion Project). The project will allow Northern Natural to transport an incremental 15,180 dekatherms per day of service for Wisconsin Power and Light Company, all as more fully set forth in the application which is on file with the Commission and open to public inspection.

The filing may also be viewed on the web at http://www.ferc.gov using the eLibrary link. Enter the docket number excluding the last three digits in the docket number field to access the document. For assistance, please contact FERC Online Support at FERCOnlineSupport@ferc.gov or toll free at (866) 208-3676, or TTY, contact (202) 502-8659.

Any questions regarding this prior notice request should be directed to Michael T. Loeffler, Senior Director, Certificates and External Affairs, Northern Natural Gas Company, 1111 South 103rd Street, Omaha, Nebraska 68124, at (402) 398-7103.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's website (http://www.ferc.gov) under the “e-Filing” link.

Dated: December 4, 2019.
Kimberly D. Bose,
Secretary.

[FR Doc. 2019-26531 Filed 12-9-19; 8:45 am]

BILLING CODE 6717-01-P